DEPARTMENT OF LABOR

Employment and Training Administration

[TA-W-65,251]

The H.B. Smith Company, Westfield, MA; Notice of Termination of Investigation

In accordance with Section 221 of the Trade Act of 1974, as amended, an investigation was initiated on February 13, 2009 in response to a petition filed by a company official on behalf of workers of The H. B. Smith Company, Westfield, Massachusetts.

The petitioner has requested that the petition be withdrawn. Consequently, the investigation has been terminated.

Signed in Washington, DC, this 3rd day of March 2009.
Richard Church,
Certifying Officer, Division of Trade Adjustment Assistance.

[FR Doc. E9-5186 Filed 3-10-09; 8:45 am]

BILLING CODE 4510-FN-P